DEPARTMENT OF AGRICULTURE

Food and Nutrition Service

Agency Information Collection Activities: WIC Tribal Organizations and U.S. Territories Study

AGENCY: Food and Nutrition Service (FNS), USDA.

ACTION: Notice.

SUMMARY: In accordance with the Paperwork Reduction Act of 1995, this notice invites the general public and other public agencies to comment on this proposed information collection for the WIC Tribal Organizations and U.S. Territories Study. This is a new information collection request. The U.S. Department of Agriculture's Food and Nutrition Service (FNS) administers the Special Supplemental Nutrition Program for Women, Infants, and Children (WIC) program to improve the health of nutritionally at-risk women and children. WIC is one of the nation's most successful public health nutrition programs. This study involves all 32 Indian Tribal Organizations (ITOs, “Tribal Organizations”) and 5 U.S. territories that operate WIC State agencies, 5 tribally operated local WIC agencies, and approximately 15 geographic State agencies that share a border with a Tribal Organization. This study aims to inform FNS about variations in operations among Tribal Organizations, U.S. territories, and geographic States administering WIC as local and State agencies. The results of the study may inform efforts to improve WIC program operations and participant services.

DATES: Written comments must be received on or before August 12, 2025.

ADDRESSES: Comments may be sent to Dr. Karen Castellanos-Brown, Food and Nutrition Service, U.S. Department of Agriculture, 1320 Braddock Place, Alexandria, VA 22314, or submitted via email at Karen.Castellanos-Brown@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Dr. Karen Castellanos-Brown at 703-305-2732.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on respondents, including use of appropriate automated, electronic, mechanical, or other technological collection techniques or other forms of information technology.

Title: WIC Tribal Organizations and U.S. Territories.

Form Number: Not applicable.

OMB Number: 0584-NEW.

Expiration Date: Not yet determined.

Type of Request: New collection.

Abstract: The Special Supplemental Nutrition Program for Women, Infants, and Children (WIC) improves the health of nutritionally at-risk women and children and is recognized as one of the nation's most successful public health nutrition programs. Eighty-eight State agencies, including 5 U.S. territories (Puerto Rico, Guam, the U.S. Virgin Islands, American Samoa, and the Commonwealth of the Northern Mariana Islands) and 32 Indian Tribal Organizations (ITOs, “Tribal Organizations”), currently administer WIC. While WIC program requirements are the same across all WIC State agencies, there is flexibility in adapting the program to the local context. This flexibility can create variation in the experiences of WIC program staff and participants. For instance, WIC agencies from geographic States traditionally contract with local agencies to provide direct services to participants. However, nearly all WIC agencies in Tribal Organizations and U.S. territories conduct State agency-level functions and provide direct WIC services.

FNS is conducting the WIC Tribal Organizations and U.S. Territories Study to learn more about how WIC agencies in Tribal Organizations and U.S. territories administer and operate the program. The results will inform FNS about differences in WIC program operations and experiences among Tribal Organizations, U.S. territories, and geographic State agencies and can inform possible program improvements. Study objectives include:

1. Comprehensively describe WIC program administration and operations among ITOs and territories operating as State and local agencies.

2. Understand the facilitators and barriers to WIC program administration and operations among ITOs and territories operating State and local agencies.

3. Examine and describe the differences in WIC State agency-level policy, service delivery, and operations between ITOs and U.S. territories and geographic State agencies.

4. Obtain information to inform determination of WIC coverage rates among ITOs and territories.

The study takes a qualitative case study approach and will gather information from the following sources: (a) extant data; (b) interviews with WIC directors (all 32 State agency-level Tribal Organizations, all 5 Tribally operated local WIC agencies, and 15 geographic State agencies); and (c) site visits to 20 selected Tribal Organizations and U.S. territories. Site visits will include interviews with WIC clinic staff and observations of the clinic environment, participant appointments, and WIC-authorized retailers.¹

¹ Observations of the clinic environment and WIC-authorized retailers are passive observations in public space and will not involve burden on participants.

Affected public: (1) State, local, and Tribal governments and (2) individuals/households. Identified respondent groups include the following:

1. State, local, and Tribal governments: Staff from 57 State, local, and Tribal government agencies (32 Tribal Organizations operating WIC State agencies, 5 Tribal Organizations operating WIC local agencies, 5 U.S. territories operating WIC State agencies, and 15 geographic WIC State agencies) will participate in data collection activities. WIC staff from 20 Tribal government agencies will participate in site visits, and WIC staff from 37 State, local, and Tribal government agencies will participate in virtual interviews.

2. Individuals/households: Observations of up to 70 WIC participant appointments will be included across the 25 WIC clinics included in site visits.

Pretesting: Pretesting of new data collection instruments will be conducted in May and June 2025. No more than nine individuals will be asked to test each instrument. Three individuals will pretest the WIC director interview guide for the Tribal Organizations and U.S. territory agencies. Two individuals will pretest the geographic State agency WIC director interview guide. Three WIC agency staff will pretest the clinic staff interview guide. The clinic environment and appointment observation forms will draw on instruments used successfully in a previous study and will not be pretested again.

Estimated number of respondents: The total estimated number of respondents for both pretests and the main study is 210: 140 staff representing State, local, and Tribal government agencies, and up to 70 WIC participant individuals or households (including adult WIC participants or adults whose children participate in WIC). Only virtual interviews will be conducted with 32 of the 52 WIC State agency directors and all 5 WIC local agency directors; all other respondents (20) will participate in a site visit. Because the study respondents work for WIC agencies that would need to have consented to participate in this study, we anticipate staff at all agencies will be responsive. The breakdown of respondents follows:

1. State, local, and Tribal government staff: Of the 37 WIC agencies from State, local, and Tribal governments initially contacted for a virtual interview, 37 staff are estimated to participate in the interview and 0 to be nonresponsive. Of the 20 WIC State agencies from WIC Tribal and U.S. territories contacted for site visits, 20 are expected to participate and 95 staff (WIC directors, clinic managers, frontline staff) from these agencies are estimated to participate and 0 to be nonresponsive.

2. Individuals/households: Up to 70 WIC participant appointment observations will be conducted. Of the 70 participant appointments observed, 70 individuals or households are estimated to participate and 0 to be nonresponsive.

Estimated number of responses per respondent: 2.66—based on 558 total annual responses from the 210 respondents. See table 1 for the estimated number of responses per respondent for each type of respondent. The estimated breakout follows:

1. WIC State agency staff (55): The estimated number of responses per WIC State agency staff is 6.16. Of these 55, Directors of three WIC State agencies will receive three communications to participate in pretesting the WIC director guide. Fifty-two staff from 52 WIC State agencies will receive a study notification email. Of these staff, 37 staff from 37 WIC State agencies will receive up to 3 communications to participate in an introductory meeting. Of these staff, 20 staff from 20 WIC State agencies will receive up to 5 communications to participate in a site visit planning meeting, WIC director interview, and WIC director debrief. Thirty-two staff from 32 WIC State agencies will receive up to 3 communications to participate in a virtual interview.

2. WIC local agency staff (7): The estimated number of responses per WIC local agency staff is 7.00. Two former geographic State WIC directors will pretest these interview guides. Five staff from five tribally operated WIC local agencies will receive up to two communications to participate in an introductory meeting and three to participate in a virtual interview.

3. WIC clinic staff (78): The estimated number of responses per WIC clinic staff is 1.60. Three staff will pretest the clinic staff guide. Twenty-five clinic managers from 25 WIC clinics will receive one communication to participate in a clinic visit planning meeting and a clinic manager interview. Fifty frontline staff from 25 WIC clinics will participate in a clinic frontline staff interview.

4. Individuals/households (70): The average estimated number of responses per individual/household is 1.00. Seventy individuals/households participating in WIC will provide informed consent for appointment observation. There is no additional burden associated with observing an existing appointment.

Estimated total annual responses: 210 (210 annual responses for responsive participants and 0 annual responses for nonresponsive participants).

Estimated time per response: 0.4811 hours (0.4811 hours for responsive participants and 0.000 hours for nonresponsive participants). Among respondents, the estimated response time varies from 0.0835 hours to 1.5 hours depending on respondent group and activity, as shown in table 1.

Estimated total annual burden on respondents and nonrespondents: 268.47 hours (268.47 hours for responsive participants and 0.00 hours for nonresponsive participants). See table 1 for the estimated total annual burden for each respondent type.

James C. Miller,
Administrator, Food and Nutrition Service.

[FR Doc. 2025-10769 Filed 6-12-25; 8:45 am]

BILLING CODE 3410-30-P